INTERNATIONAL TRADE COMMISSION

[Investigation No. 337-TA-1230]

Certain Electric Shavers and Components and Accessories Thereof; Institution of Investigation

AGENCY: International Trade Commission.

ACTION: Notice.

SUMMARY: Notice is hereby given that a complaint was filed with the U.S. International Trade Commission on October 13, 2020, under section 337 of the Tariff Act of 1930, as amended, on behalf of Skull Shaver, LLC of Moorestown, New Jersey. A supplement was filed on October 29, 2020. The complaint, as supplemented, alleges violations of section 337 based upon the importation into the United States, the sale for importation, and the sale within the United States after importation of certain electric shavers and components and accessories thereof by reason of infringement of certain claims of U.S. Patent No. 8,726,528 (“the '528 patent”) and U.S. Patent No. D672,504 (“the '504 patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on November 12, 2020, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3 of the '528 patent and the claim of the '504 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “handheld electric head and body shavers and their components and accessories”;

(3) For the purpose of the investigation so instituted, the following are hereby named as parties upon which this notice of investigation shall be served:

(a) The complainant is:

Skull Shaver, LLC, 1503 Glen Avenue, Suite 160, Moorestown, NJ 08057-1144

(b) The respondents are the following entities alleged to be in violation of section 337, and are the parties upon which the complaint is to be served:

Rayenbarny Inc., 299 Park Avenue, Floor 6, New York, NY 10171

Bald Shaver Inc., 540 King Street W, Toronto, Ontario, Canada, M5V 1M3

Suzhou Kaidiya Garments Trading Co., Ltd., d.b.a. “Digimator”, Room 50, Building 16-52, Shihui Fang Industrial Park, Suzhou, Jiangsu, 215000, China

Shenzhen Aiweilai Trading Co., Ltd., d.b.a. “Teamyo”, Room 302, Building 39, Shuiwei No.1, Minzhi Street, Longhua New District, Shenzhen, Guangdong, 518000, China

Wenzhou Wending Electric Appliance Co., Ltd., 502, Building 8, West Street, Lecheng Street, Yueqing City, Zhejiang Province, 325600, China

Shenzhen Nukun Technology Co., Ltd., d.b.a. “OriHea”, A2-405, Zhongbaotong Technology Park, No. 34, Changfa West Road, Wuhe Metro Station, Longgang District, Shenzhen, Guangdong, 518000, China

Yiwu Xingye Network Technology Co. Ltd., d.b.a. “Roziapro”, Choujiang Street, Chengzhongxilu No.93, Yiwu, Zhejiang, 322000, China

Magicfly LLC, Room 1501, Grand Millennium Plaza, Lower Blk, 181 Queen's Road, Center Hong Kong

Yiwu City Qiaoyu Trading Co., Ltd., 401, 2 Hao, 33 Zhuang Duyuan Cun, Houzhai, Jiedao, Yiwu, Zhejiang, 322000, China

Shenzhen Wantong Information Technology Co., Ltd., d.b.a. “WTONG”, B1330, Chuangwei Chuangxin Valley, No. 8, Tangtou No.1 Road, Tangtou Community, Shiyan Street, Baoan District, Shenzhen, Guangdong, 518000, China

Shenzhen Junmao International Technology Co., Ltd., d.b.a. “Homeasy”, Minle Gongyeyuan Erdong 401, Longhua Xinqu Minzhi Jiedao, Shenzhen, Guangdong, 518000, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 12, 2020.
Lisa Barton,
Secretary to the Commission.

[FR Doc. 2020-25377 Filed 11-17-20; 8:45 am]

BILLING CODE 7020-02-P